DEPARTMENT OF AGRICULTURE

Farm Service Agency

National Drought Policy Commission

AGENCY: Farm Service Agency, USDA.

ACTION: Notice of Commission Meeting and Release of Draft Report.

SUMMARY: The National Drought Policy Commission (Commission) shall conduct a thorough study and submit a report to the President and Congress on national drought policy. This notice announces a meeting to be held on March 1, 2000, in Scottsdale, Arizona, and seeks comments on issues that the Commission should address and recommendations that the Commission should consider as part of its report. The meeting is open to the public.

This notice also announces that the Commission will make its draft report available on the Commission's web site, http://www.fsa.usda.gov/drought/, about the second week in March, to solicit public review and comments.

DATES: The Commission will conduct a meeting on March 1, 2000, from 9:00 a.m. to 5:00 p.m. at the Tournament Players Club of Scottsdale, 17020 North Hayden Road, Scottsdale, Arizona. All times are Mountain Standard Time.

Persons with disabilities who require accommodations to attend or participate in this meeting should contact Leona Dittus, on 202-720-3168, Federal Relay Service at 1-800-877-8339, or Internet: leona.dittus@usda.gov, by COB February 23, 2000.

COMMENTS: The public is invited to respond and/or to submit comments, concerns, and issues for consideration by the Commission no later than 21 days after release of the draft report.

ADDRESSES: Comments and statements should be sent to Leona Dittus, Executive Director, National Drought Policy Commission, U.S. Department of Agriculture, 1400 Independence Avenue, SW, Room 6701-S, STOP 0501, Washington, DC 20250-0501.

FOR FURTHER INFORMATION CONTACT: Leona Dittus (202) 720-3168; FAX (202) 720-9688; Internet: leona.dittus@usda.gov.

SUPPLEMENTARY INFORMATION: The purpose of the Commission is to provide advice and recommendations to the President and Congress on the creation of an integrated, coordinated Federal policy, designed to prepare for and respond to serious drought emergencies. Tasks for the Commission include developing recommendations that will (a) better integrate Federal laws and programs with ongoing State, local, and tribal programs, (b) improve public awareness of the need for drought mitigation, prevention, and response and (c) determine whether all Federal drought preparation and response programs should be consolidated under one existing Federal agency, and, if so, identify the agency.

The Commission's draft vision statement is of a well-informed, involved U. S. citizenry and its governments prepared for and capable of lessening the impacts of drought—consistently and timely. Drought policy should improve national security and foster economic prosperity, environmental quality, and social well being. It should also benefit future generations as well as our own.

In addition to your views and thoughts regarding a national drought policy, as you review the draft vision statement, the Commission would be interested in your thoughts regarding the following questions:

1. What is the best means for informing the public of Federal assistance for drought planning and mitigation?

2. What type of information do you need for responding to drought?

3. What needs do you or your organization presently have with respect to addressing drought conditions?

4. What do you see as the role of State, local, and Federal Governments and regional and tribal entities with respect to drought preparedness? Drought response? Should Federal emergency assistance be contingent on advance preparedness?

5. Are there any ways you feel that the Federal Government could better coordinate with State, regional, tribal, and local governments in mitigating or responding to droughts?

6. What lessons have you or your organization learned from past drought experiences that would be beneficial in the creation of a national drought policy?

Signed at Washington, D.C., on February 10, 2000.
George Arredondo,
Administrator, Farm Service Agency.

[FR Doc. 00-3688 Filed 2-11-00; 4:54 pm]

BILLING CODE 3410-05-P